SECURITIES AND EXCHANGE COMMISSION

[Release No. 34-86068; File No. SR-CboeEDGX-2019-009]

Self-Regulatory Organizations; Cboe EDGX Exchange, Inc.; Notice of Withdrawal of Proposed Rule Change, as Modified by Amendment No. 1, To Adopt Rule 21.21 (Solicitation Auction Mechanism)

June 7, 2019.

On February 21, 2019, Cboe EDGX Exchange, Inc. (the “Exchange”) filed with the Securities and Exchange Commission (“Commission”), pursuant to Section 19(b)(1) of the Securities Exchange Act of 1934 ¹ and Rule 19b-4 thereunder,² a proposed rule change to adopt Rule 21.21, the Solicitation Auction Mechanism, a solicited order mechanism for larger-sized orders. The proposed rule change was published for comment in the Federal Register on March 12, 2019.³ On April 23, 2019, the Exchange filed Amendment No. 1 to the proposed rule change.⁴ On April 26, 2019, pursuant to Section 19(b)(2) of the Act,⁵ the Commission designated a longer period within which to approve the proposed rule change, disapprove the proposed rule change, or institute proceedings to determine whether to approve or disapprove the proposed rule change.⁶ The Commission received no comments on the proposal. On June 7, 2019, the Exchange withdrew the proposed rule change (SR-CboeEDGX-2019-009).

¹ 15 U.S.C. 78s(b)(1).

² 17 CFR 240.19b-4.

³ See Securities Exchange Act Release No. 85253 (March 6, 2019), 84 FR 8921.

⁴ Amendment No. 1 revised the proposal to (1) correct minor technical errors in the description of the proposed rule change; (2) remove an inadvertent description of an amendment to Exchange Rule 22.12, which the Exchange does not propose to amend in the proposal; and (3) update the Exchange's description of the proposed rule change's consistency with Section 11(a) of the Act. Amendment No. 1 is available at https://www.sec.gov/comments/sr-cboeedgx-2019-009/srcboeedgx2019009-5405908-184490.pdf.

⁵ 15 U.S.C. 78s(b)(2).

⁶ See Securities Exchange Act Release No. 85734, 84 FR 18907 (May 2, 2019). The Commission designated June 10, 2019 as the date by which the Commission shall approve or disapprove, or institute proceedings to determine whether to approve or disapprove, the proposed rule change.

For the Commission, by the Division of Trading and Markets, pursuant to delegated authority.⁷
⁷ 17 CFR 200.30-3(a)(12).
Eduardo A. Aleman,
Deputy Secretary.

[FR Doc. 2019-12453 Filed 6-12-19; 8:45 am]

BILLING CODE 8011-01-P